DEPARTMENT OF THE TREASURY

Submission for OMB Review; Comment Request

January 8, 2002.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220.

DATES: Written comments should be received on or before February 14, 2002 to be assured of consideration.

Financial Management Service (FMS)

OMB Number: 1510-0061.

Form Number: None.

Type of Review: Extension.

Title: Cash Management Improvement Act (CMIA) Annual Report and Direct Cost Claims.

Description: States and Territories must report interest owed to and from the Federal government for major Federal assistance programs on an annual basis. The data is used by Treasury and other Federal agencies to verify State and Federal interest claims to assess State and Federal cash management practices and to exchange amounts of interest owed.

Respondents: State, Local or Tribal Government, Federal Government.

Estimated Number of Respondents/Recordkeepers: 56.

Estimated Burden Hours Per Respondent/Recordkeeper: 350 hours.

Frequency of Response: Annually.

Estimated Total Reporting Burden: 19,600 hours.

Clearance Officer: Juanita Holder, Financial Management Service, 3700 East West Highway, Room 135, PGP II, Hyattsville, MD 20782.

OMB Reviewer: Alexander T. Hunt, (202) 395-7860, Office of Management and Budget, Room 10202, New Executive Office Building, Washington, DC 20503.

Mary A. Able,
Departmental Reports, Management Officer.

[FR Doc. 02-947 Filed 1-14-02; 8:45 am]

BILLING CODE 4810-35-P